DEPARTMENT OF ENERGY

Federal Energy Regulatory Commission

[Project No. 2310-263]

Pacific Gas & Electric Company; Notice of Intent To Prepare an Environmental Assessment

On October 31, 2024, Pacific Gas & Electric Company filed an application for a temporary variance from Article 39 of the Drum Spaulding Hydroelectric Project No. 2310. The project is located on the upper reaches of the South Yuba and Bear Rivers in Nevada and Placer counties, California, near the cities of Auburn, Colfax, Grass Valley and Nevada City. The project does occupy federal lands.

Pacific Gas & Electric Company is proposing to restore the Lower Feeley Lake Dam (Carr Lake) Crest to its original design elevation and associated upstream toe along with enhanced protection to the upstream slope. A variance in the minimum flows required by Article 39 is necessary to facilitate the work. Approving the variance would allow the licensee to reduce flows released from the Lower Feeley Dam from the required flow of 0.5 cubic-feet-per-second (cfs) target to a 0.4 cfs target and reduce the allowable minimum flow from 0.2 cfs to 0.1 cfs. The described reduction in flows would occur from June 1, 2025 until November 30, 2025.

The Commission issued a notice of application for filing, soliciting comments, motions to intervene, and protests for this variance request on February 6, 2025. The public comment period will close on March 10, 2025.

This notice identifies Commission staff's intention to prepare an environmental assessment (EA) for the project.¹ Commission staff plans to issue an EA by April 30, 2025. Revisions to the schedule may be made as appropriate. The EA will be issued for a 30-day comment period. All comments filed on the EA will be reviewed by staff and considered in the Commission's final decision on the proceeding.

¹ The unique identification number for documents relating to this environmental review is EAXX-019-20-000-1738840789. 40 CFR 1501.5(c)(4) (2024).

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Any questions regarding this notice may be directed to Katie Schmidt at (415) 369-3348 or katherine.schmidt@ferc.gov.

Dated: February 11, 2025.
Debbie-Anne A. Reese,
Secretary.

[FR Doc. 2025-02713 Filed 2-14-25; 8:45 am]

BILLING CODE 6717-01-P